DEPARTMENT OF TRANSPORTATION

National Highway Traffic Safety Administration

[Docket No. NHTSA-2021-0033]

Agency Information Collection Activities; Submission to the Office of Management and Budget for Review and Approval; Request for Comment; Government 5-Star Safety Ratings Label Consumer Research

AGENCY: National Highway Traffic Safety Administration (NHTSA), Department of Transportation (DOT).

ACTION: Notice and request for comments on a request for approval of a new information collection.

SUMMARY: In compliance with the Paperwork Reduction Act of 1995 (PRA), this notice announces that the Information Collection Request (ICR) summarized below will be submitted to the Office of Management and Budget (OMB) for review and approval. This document describes a new collection of information for consumer research purposes regarding the Government 5-Star Safety Ratings section of the Monroney label for which NHTSA intends to seek OMB approval. A Federal Register Notice with a 60-day comment period was published on November 19, 2021. Seven (7) public comments were received before the closing date of January 18, 2022.

DATES: Comments must be submitted on or before November 7, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Mike Joyce, Marketing Specialist, Office of Communications and Consumer Information (NCO-0200), National Highway Traffic Safety Administration, 1200 New Jersey Ave. SE, W52-238, Washington, DC 20590. Mike Joyce's phone number is 202-366-5600 and his email address is Mike.Joyce@dot.gov.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

Title: Government 5-Star Safety Ratings Label Consumer Research.

OMB Control Number: 2127-New.

Form Number(s): NHTSA Form 1681, NHSTSA Form 1682, NHTSA Form 1683.

Type of Request: Request for approval of a new information collection.

Type of Review Requested: Regular.

Requested Expiration Date of Approval: Three years from approval date.

Abstract: The National Highway Traffic Safety Administration (NHTSA) was established by the Highway Safety Act of 1970 (Pub. L. 91-605, 202(a), 84 Stat. 1713, 1739-40). NHTSA'S mission is to save lives, prevent injuries and reduce economic costs due to crashes on the nation's highways. Part C of the Motor Vehicle and Driver Programs, at 49 U.S.C. 32302, requires the Secretary of Transportation (NHTSA by delegation) to provide to the public information about the safety of new passenger motor vehicles. Under its New Car Assessment Program (NCAP) and 5-Star Safety Ratings Program, NHTSA conducts frontal crash, side crash and rollover resistance tests of new vehicles and, based on the results, assigns safety ratings to the tested vehicles. The ratings enable consumers to consider and assess the relative safety of vehicles before deciding which new vehicle they want to purchase.

In 2005, Congress enacted the Safe, Accountable, Flexible, Efficient Transportation Equity Act: A Legacy for Users (SAFETEA-LU) (Pub. L. 109-59), which required the safety ratings assigned by NHTSA under NCAP or a statement that the vehicle was not assigned safety ratings under NCAP to be included on the window label for new vehicles, known as the Monroney label.¹ Per 15 U.S.C. 1232(g), the window label must contain the safety ratings published or released by NHTSA's New Car Assessment Program, including the graphical depiction of those ratings, reference to the safety rating categories (e.g., frontal impact crashes tests, side impact crash tests, and rollover restistance tests), and information describing the nature and meaning of the crash test data presented and a reference to http://www.safercar.gov. This information must be presented in a legible, visible, and prominent fashion that covers at least 8 percent of the total area of the label, or an area with a minimum length of four and a half inches and a minimum height of three and a half inches. If a vehicle has not been rated by NHTSA's New Car Assessment Program, then the label much state that.² On December 4, 2015, Congress enacted the Fixing America's Surface Transportation (FAST) Act, which requires the Secretary of Transportation (NHTSA by delegation) to issue a rule to ensure crash-avoidance information is provided next to crashworthiness information on vehicle window stickers.³

¹ The Automobile Information Disclosure Act of 1958, 15 U.S.C. 1231-1233, requires that new vehicles carry a sticker on a window containing specified information about the vehicle.

² 12 U.S.C. 1232(h).

³ Section 24322 of Part II—Safety Through Informed Consumers Act of 2015. Public Law 114-94.

In continuing support of its mission and to assist the agency in meeting its FAST Act requirement, NHTSA proposes to conduct qualitative research using focus groups in four geographic markets located across the country to evaluate design and consumer information improvements to the Government 5-Star Safety Ratings section of the Monroney label.⁴ This information collection will involve a one-time, voluntary phone screening survey involving members of the public to identify research participants for a one-time, in-person focus group. Participants in the research program will be asked to evaluate design and consumer information improvements to the Government 5-Star Safety Ratings section of the vehicle window sticker. NHTSA will use the findings from this research to support planned changes to the current label requirements and future designs for communicating vehicle safety ratings and advanced driver assistance systems performance assessments to consumers.

⁴ 15 U.S.C. 1232.

Summary of the Collection of Information: In this collection of information, NHTSA is seeking approval to conduct qualitative focus groups with 66 consumer participants. The focus groups aim to achieve the following objectives:

(1) Evaluate the overall appeal of each label concept and identify specific likes and dislikes associated with specific components of the label;

(2) Measure the ease of comprehension for each label concept and understand which visual and text features are most effective at conveying vehicle safety information;

(3) Assess the distinctiveness of how the information is displayed and understand how best to make the vehicle safety information stand out on the Monroney label; and,

(4) Identify additional areas of improvement related to the three main label sections relating to safety protection, safety technology, and overall vehicle safety performance.

Description of the Need for the Information and the Proposed Use of the Information: This collection of information will allow NHTSA to obtain critical information to assist the agency in fulfilling the 2015 FAST Act's requirement that NHTSA issue a rule to ensure that crash-avoidance information is provided next to crashworthiness information on vehicle windows stickers.⁵ Specifically, the data from this collection will be used to not only enhance consumer understanding of NHTSA's vehicle safety ratings and advanced driver assistance systems performance assessments, but also guide the development of communications that will help consumers as they consider this information in their vehicle purchase decisions.

⁵ Section 24322 of Part II—Safety Through Informed Consumers Act of 2015 requires the Secretary of Transportation (NHTSA by delegation) to issue a rule to ensure that crash-avoidance information is indicated next to crashworthiness information on stickers placed on motor vehicles by their manufacturers. Public Law 114-94, December 4, 2015.

60-Day Notices:

On April 28, 2020, NHTSA published a notice in the Federal Register soliciting public comments with a 60-day comment period (85 FR 23598). NHTSA received 4 public comments submitted to the docket during this period. Given the extended time period since the initial publication of that notice, NHTSA published a new 60-day notice on November 19, 2021 (86 FR 64989) seeking comment on the same ICR. The November 19, 2021 notice sought public comment on the ICR and also responded to the comments received on the original notice.

The comment period for the November 19, 2021 notice closed on January 18, 2022. NHTSA received seven (7) public comments. NHTSA received public comments from General Motors (GM), National Safety Council (NSC), National Automobile Dealers Association (NADA), Motor & Equipment Manufacturers Association (MEMA), VERITY Now, Auto Innovators and a member of the general public.

In addition to receiving general comments about the ICR, NHTSA received comments on the following topics: (1) selection of and number of research participants (2) study methodology; and (3) suggestions regarding the content of the labels presented to research particpants. NHTSA also received comments regarding topics not directly related to the ICR. The public comments and NHTSA's responses are summarized below.

NHTSA received general support for conducting the research from two commentors. NSC's comment stated that they “applaud the proposed action of NHTSA to conduct qualitative research to identify ways to improve the information displayed and communicated through the 5-Star Safety Ratings.” Auto Innovators stated that it supports the proposed collection of information as it is both necessary for the proper performance of the functions of the agency in ensuring a modernized approach to NCAP, and because the information can have practical utility in informing the structure and content of the Monroney label. The comment from Auto Innovator also encouraged NHTSA to prioritize this information collection effort to ensure that it is completed in a timely manner.

Participant Selection:

NHTSA received three comments regarding participant selection. NADA urges NHTSA to pre-screen potential participants to ensure they are prospective purchasers. GM stated that it believes participants should be drawn from the population of households that acquired a new vehicle, not used as the window label is more relevant to new vehicle buyers. GM also recommended reducing the number of participants from 9 to 6 to provide for better engagement of participants.

The comment from the National Safety Council (NSC) suggests that NHTSA should conduct the research to improve the sharing of information by engaging a diverse set of the consumers and having representative selection in each focus group to ensure the best input with all consumers. GM suggested reducing cities and suggested that conducting the research in 4 cities may be unnecessary.

NHTSA Response: The study will use focus groups to collect insights to guide potential redesign of the Government 5-Star Safety Ratings section of the Monroney label (vehicle window sticker). The target audience for the research will include licensed drivers, ages 18+ who are either a primary or shared decision-maker for vehicle purchases in the household, have either recently purchased a motor vehicle (last 6 months) OR who are likely to do so in the next 12 months AND reside in one of the four target markets where the research will be conducted. NHTSA will use a total of four markets to provide a mix of geographies (east coast, mid-west, southwest and west coast). Additionally, participants will be recruited to represent a mix of demographics (age, gender, ethnicity, etc.).

Research Methodology:

NHTSA received several comments on research methodology. Specifically, GM and NADA noted that the 60-day notice did not outline the specific changes it will present to the focus groups. GM's comment stated that NHTSA's research plan in the public notice did not discuss the specific content or how the content will be presented to participants. GM also states that NHTSA did not specify the number or format of the concepts or mention the qualifications to participate in the research study.

Response: NHTSA notes that the study will use data driven insights from the qualitative research to guide potential redesign of the Government 5-Star Safety Ratings section of the Monroney label (vehicle window sticker). The research will evaluate a variety of concept executions to explore both graphical and text-based communications as potential modifications to the Government 5-Star Safety Ratings section of the Monroney label with the intent of finding the most effective way to display information related to vehicle safety.⁶ During the focus groups participants will first review an example (poster-sized version of a window sticker and smaller version in a respondent workbook) of the current design of the Monroney Label to help identify what areas are effective at grabbing their attention and which areas (if any) are unclear or confusing. The discussion will then focus on the section of window sticker featuring the Government 5-star safety ratings to capture reactions (clarity of information, size, color, ability to grab attention, etc.). The remaining discussion will focus on evaluating concepts for new designs. The research expects to test label concepts for improvement on three main sections related to safety protection, safety technology and overall vehicle safety performance and will include up to three alternative design concepts. NHTSA is also considering additional quantitative market research to further confirm and validate the findings.

⁶ For more detailed information about the research methodology, please see the background documents available www.reginfo.gov/public/do/PRAMain. To find this particular collection, select “Currently under Review—Open for Public Comment” or use the search function.

One of the core objectives of the research is to measure the clarity and ease of comprehension for each concept and understand which visual and text features are most effective at conveying safety information. This will be accomplished through a mix of workbook activities where each participant can identify specific elements, visuals, words or phrases that are unclear or confusing and a subsequent group discussion to debrief on any problem areas. Furthermore, the research will examine the vehicle safety information in the current window sticker design along with several alternative concepts that use different ways of displaying safety information to determine the most effective way to communicate the relative safety performance. The use of different visual designs will allow NHTSA to better understand consumer reactions to the size and orientation of safety content on the label and to determine the importance of various elements along with and potential trade-offs to be considered when prioritizing safety information.

Label Content:

Several commenters included specific recommendations about the different designs that study participants would be asked to evaluate. The comment from Auto Innovators urges NHTSA to explore testing different ratings formats that differ from the current U.S. star rating to determine whether consumers can easily interpret information presented in different formats on the same label. Auto Innovators suggests that NHTSA should consider whether safety information can be effectively communicated both in the presence or absence of color. Auto Innovators also suggests that NHTSA's research should assess differentiation between various levels of performance. The comment from the Auto Innovators also discussed results from a consumer survey they conducted and stated that the results of the survey suggests that the assessment criteria should be structured to allow for differentiation between various levels of performance. Specifically, 84% of respondents to their survey indicated that half stars would be helpful with few indicating they would be unhelpful. Auto Innovators urged NHTSA to consider this, and other results from their suvery, as part of its focus group engagement.

NHTSA also received general comments regarding the label from MEMA and NSC. MEMA suggests that NHTSA should utilize common, consumer-friendly technology nomenclature, and maintain the use of star ratings on the label/program. NSC suggested that NHTSA's new label(s) should be approachable and include well understood language that all people can understand. Both Auto Innovators and MEMA suggested leveraging QR codes to provide more detailed information to consumers.

Response: The research will examine the vehicle safety information in the current window sticker design along with several alternative concepts that use different ways of displaying safety information to determine the most effective way to communicate the relative safety performance. The use of different visual designs will allow NHTSA to better understand consumer reactions to the size and orientation of safety content on the label and to determine the importance of various elements along with and potential trade-offs to be considered when prioritizing safety information. This, in turn, will help to inform changes to the label requirements as well as future consumer communications on vehicle safety ratings and safety technology systems performance assessments to assist the public when making vehicle purchasing decisions.

The research will include several alternative designs and consumer reaction to the different elements will help illustrate which format(s) are effective at helping the consumer quickly assess differentiation between various levels of safety performance.

As part of the research, NHTSA specifically plans to examine the role of color and see if there is any evidence to suggest concerns over the ability to understand the differences when showing information in black and white (versus displaying it in color).

Other Comments:

NHTSA also received several comments that were not relevant to the information collection, but rather commented on NCAP more generally. NSC's comment stated their support for changes to NCAP to include, a minimum, changes for crash avoidance, crashworthiness, and pedestrian detection. And recommended that NHTSA should work with manufacturers at no additional cost to consumers. NHTSA also received a comment from VERITY Now, and an individual, Maria, Kuhn, suggesting that NHTSA's test should be more equitable to account for women. VERITY Now's comment suggested that the 5-star program does not test for women in the driver's seat and that the crash test dummies NHTSA uses to represent women in other vehicle positions are based on male physiology.

Response: While these comments are not directly relevant to this ICR, NHTSA notes that the agency does use female crash test dummies in various crash tests in both the 5-star safety ratings program and the compliance crash test program. The focus of this consumer research, however, is to refine the vehicle safety information currently included in the 5-star safety ratings program on the Monroney label from a consumer-focused perspective. The comment proposed here is outside the scope of this consumer research effort. However, the agency continues to evaluate this matter from a technical research perspective.

Affected Public: Members of the public 18 years of age or older with a driver's license, who are a decision-maker for vehicle purchases for their household, has either purchased or leased a vehicle in the last six months or is planning to do so in the next 12 months and lives in one of the four markets to conduct the research (Arlington, VA; Dallas, TX; Columbus, OH; or San Jose, CA).

Frequency: One time.

Number of Respondents: 500.

For this information collection, NHTSA plans to conduct a total of eight focus group sessions (two groups in each of the following recommended markets: Arlington, VA; Dallas, TX; Columbus, OH; and San Jose, CA), each lasting approximately 90 minutes. NHTSA intends for each focus group to consist of approximately nine participants (six participants in Arlington, due to social distancing restrictions) for a total of 66 participants in the focus group sessions. Based on experience, NHTSA will need to recruit up to 14 people per focus group in order to ensure that the desired number will appear at the focus group facility at the appointed time. If more than the desired number of participants show up at the facility for a given session, the research team will select nine participants (six in Arlington) based on their profile information provided in the recruitment grid to seat. The remaining participants will be paid their honorarium, thanked for their willingness to participate, and informed that they are free to go. Therefore, in order to ensure that there are approximately nine participants (six in Arlington) per focus group session, a total of 100 potential participants (eight per focus group in Arlington and 14 per focus group in other markets) will be recruited via telephone screening calls, which are estimated to take five minutes per call. In order to recruit 100 potential participants, NHTSA estimates that it will be necessary to initially reach out to and screen 500 people. This is based on experience that demonstrates that, of the people who are contacted, 20% will qualify for the study, be available and be interested in participating in the focus group.

Estimated Total Annual Burden Hours: 141 hours.

NHTSA estimates the total burden per person actually participating in this focus group research is estimated to be 95 minutes (five minutes for the screening/recruiting telephone call plus 90 minutes in the focus group discussion session). Additionally, the total burden per person recruited (but not participating in the discussions) is five minutes. Therefore, the total annual estimated burden imposed by this collection is approximately 141 hours.

Category of respondent | Number of respondents | Participation time (minutes) | Burden
Recruit/screening call (assumes 20% qualify, are available and interested in participating in the focus group) | 500 | 5 | 41.7 hours, or 42 hours (rounded).
Participation in 90-minute group | 66 | 90 | 99.0 hours.
Total Burden |  |  | 141 hours.

Estimated Total Annual Burden Cost: $3,360.00.

The only cost burdens respondents will incur are costs related to travel to and from the research location. The costs are minimal and are expected to be offset by the honorarium that will be provided to all research participants. NHTSA estimates that each of the focus group participants will travel less than 30 miles one-way to the focus group location (60 miles round trip). Using the IRS standard mileage rate of $0.56 per mile,⁷ each respondent is expected to incur no more than $33.60 in transportation costs. Therefore, NHTSA estimates that the total costs to all respondents will be $3,360.00.

⁷ From Internal Revenue Services' 2021 Standard Mileage Rate for business miles driven. https://www.irs.gov/tax-professionals/standard-mileage-rates, last accessed May 7, 2021.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29A.

Issued on: September 30, 2022.
Juliette Marie Vallese,
Associate Administrator, Office of Communications and Consumer Information.

[FR Doc. 2022-21712 Filed 10-5-22; 8:45 am]

BILLING CODE 4910-59-P